DEPARTMENT OF STATE

[Public Notice 4288]

Office of Oceans Affairs; Comprehensive Environmental Evaluations for Antarctic Activities

AGENCY: Department of State.

ACTION: Notice.

SUMMARY: The Department of State gives notice of the availability of three draft Comprehensive Environmental Evaluations (CEEs) for activities proposed to be undertaken in Antarctica. Interested members of the public are invited to submit comments relative to these CEEs.

DATES: Comments must be submitted on or before June 3, 2003.

ADDRESSES: Send comments to OES/OA, Room 5805; Department of State; Washington, DC 20520, or to SaturniFM@state.gov.

FOR FURTHER INFORMATION CONTACT: Fabio M. Saturni, Office of Oceans Affairs, (202) 647-0237.

SUPPLEMENTARY INFORMATION: Article 3 of Annex I to the Protocol on Environmental Protection to the Antarctic Treaty requires parties to prepare a CEE for any proposed Antarctic activity likely to have more than a minor or transitory impact. Draft CEEs are to be made publicly available with a 90-day period for receipt of comments. This notice is published pursuant to 16 U.S.C. 2403a(h).

The Department of State has received three draft CEEs:

1. The Czech Republic has submitted a draft CEE for proposed construction and operation of a scientific station at James Ross Island. The document is available at this Web site: http://www.cep.aq/default.asp?casid=5768.

2. New Zealand has submitted a draft CEE for the ANDRILL program of proposed Antarctic scientific stratigraphic drilling. The document is available at this Web site: http://www.antarcticanz.govt.nz/DownLoadDocuments/PDF/Envir-onment/ANDRILL%20Final%20Jan22.pdf.

3. The Russian Federation has submitted a draft CEE for water sampling of the subglacial Lake Vostok. The document is available at this Web site: http://www.cep.aq/default.asp?casid=5762.

The Department of State invites interested members of the public to provide written comments on these draft CEEs.

Dated: February 24, 2003.
Raymond V. Arnaudo,
Deputy Director, Office of Oceans Affairs, Department of State.

[FR Doc. 03-4909 Filed 2-28-03; 8:45 am]

BILLING CODE 4710-09-P